DEPARTMENT OF COMMERCE

Foreign-Trade Zones Board

[S-01-2018]

Foreign-Trade Zone 18—San Jose, California; Application for Subzone Expansion, Lam Research Corporation, Fremont and Livermore, California

An application has been submitted to the Foreign-Trade Zones (FTZ) Board by the City of San Jose, grantee of FTZ 18, requesting expanded subzone status for the facility of Lam Research Corporation (Lam), located in Tracy, California. The application was submitted pursuant to the provisions of the Foreign-Trade Zones Act, as amended (19 U.S.C. 81a-81u), and the regulations of the FTZ Board (15 CFR part 400). It was formally docketed on January 3, 2018.

Subzone 18F consists of the following sites in Fremont and Livermore: Site 1 (29 acres) 4650 Cushing Parkway, Fremont; Site 4 (14.82 acres) 1 and 101 Portola Avenue, Livermore; Site 5 (4.4 acres)—7364 Marathon Drive and 7150 Patterson Pass Road, Unit G, Livermore; Site 7 (0.91 acres)—6757 Las Positas Road, Livermore; Site 8 (0.44 acres)—7888 Marathon Drive, Livermore; Site 9 (1.6 acres)—41707 Christy Street, Fremont; Site 11 (1.19 acres)—4050 Starboard Drive, Fremont; and, Site 12 (0.98 acres)—7650 Marathon Drive, Livermore. The applicant is now requesting authority to expand the subzone to include an additional site (3.49 acres) located at 6551 West Schulte Road, Tracy, which would be designated as Site 13. The expanded subzone would be subject to the existing activation limit of FTZ 18.

In accordance with the FTZ Board's regulations, Christopher Kemp of the FTZ Staff is designated examiner to review the application and make recommendations to the Executive Secretary.

Public comment is invited from interested parties. Submissions shall be addressed to the FTZ Board's Executive Secretary at the address below. The closing period for their receipt is February 26, 2018. Rebuttal comments in response to material submitted during the foregoing period may be submitted during the subsequent 15-day period to March 13, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Christopher Kemp at Christopher.Kemp@trade.gov or (202) 482-0862.

Dated: January 8, 2018.
Andrew McGilvray,
Executive Secretary.

[FR Doc. 2018-00680 Filed 1-16-18; 8:45 am]

BILLING CODE 3510-DS-P